DEPARTMENT OF THE INTERIOR

Bureau of Land Management

[NM-030-1430-ES; NMNM111997]

Recreation and Public Purpose (R&PP) Act Classification; Dona Ana County, NM

AGENCY: Bureau of Land Management (BLM), Interior.

ACTION: Notice of realty action.

SUMMARY: This action informs the public that BLM has examined and found suitable approximately 15 acres of public land in Dona Ana County, New Mexico for lease or conveyance to Las Cruces Public Schools under the provision of the R&PP Act, as amended (44 Stat. 741, as amended; 43 U.S.C. 869 et seq.) and Section 212 of the Federal Land Policy and Management Act (FLPMA of 1976, as amended).

DATES: Comments regarding the proposed lease/conveyance or classification must be submitted on or before June 6, 2005.

ADDRESSES: Comments should be sent to the BLM, Las Cruces Field Office, 1800 Marquess, Las Cruces, New Mexico 88005.

FOR FURTHER INFORMATION CONTACT: Angel Mayes, Realty Specialist at the address above or by telephone at (505) 525-4376.

SUPPLEMENTARY INFORMATION: The following public land in Dona Ana County, New Mexico has been examined and found suitable for classification for lease or conveyance to Las Cruces Public Schools under the provision of the R&PP Act, as amended (44 Stat. 741, as amended; 43 U.S.C. 869 et seq.) and section 212 of the Federal Land Policy and Management Act (FLPMA of 1976 as amended). Las Cruces Public Schools propose to use the land for a K-5 Elementary School and playgrounds.

New Mexico Principal Meridian

T. 22 S., R. 2 E., NMPM

Section 28, SE¼NE¼NE¼ and S½NE¼NE¼NE¼.

Containing 15.136 acres, more or less.

Lease or conveyance will be subject to the following terms, conditions, and reservations:

1. Provisions of the R&PP Act and to all applicable regulations of the Secretary of the Interior.

2. All valid existing rights documented on the official public land records at the time of lease/patent issuance.

3. All minerals shall be reserved to the United States, together with the right to prospect for, mine, and remove the minerals.

4. Any other reservations that the authorized officer determines appropriate to ensure public access and proper management of Federal land and interests therein.

Upon publication of this notice in the Federal Register, the land will be segregated from all other forms of appropriation under the public land laws, including the general mining laws, except for lease or conveyance under the R&PP Act and leasing under the mineral leasing laws.

On or before June 6, 2005, interested persons may submit comments regarding the proposed lease/conveyance or classification of the land to the BLM Las Cruces Field Manager.

Any adverse comments will be reviewed by the State Director. In the absence of any adverse comments, the classification will become effective on June 20, 2005.

Classification Comments: Interested parties may submit comments involving the suitability of the land for the K-5 Elementary School. Comments on the classification is restricted to whether the land is physically suited for the proposal, whether the use will maximize the future use or uses of the land, whether the use is consistent with local planning and zoning, or if the use is consistent with State and Federal programs.

Additional Comments: Interested parties may submit comments regarding the specific use proposed in the application and plan of development, whether the BLM followed proper administrative procedures in reaching the decision, or any other factor not directly related to the suitability of the land for a school site.

Dated: March 9, 2005.
Tim L. Sanders,
Acting Field Manager, Las Cruces.

[FR Doc. 05-7964 Filed 4-20-05; 8:45 am]

BILLING CODE 4310-VC-P